DEPARTMENT OF ENERGY

Federal Energy Regulatory Commission

18 CFR Parts 4, 5, 16, 33, 34, 35, 157, 348, 375, 385 and 388

[Docket No. RM12-2-000; Order No. 769]

Filing of Privileged Materials and Answers to Motions; Correction

AGENCY: Federal Energy Regulatory Commission. DOE.

ACTION: Final rule; correction.

SUMMARY: The Federal Energy Regulatory Commission is correcting a final rule that appeared in the Federal Register of October 29, 2012 (77 FR 65463). In this final rule, the Commission is revising its rules and regulations relating to the filing of privileged material in keeping with the Commission's efforts to comply with the Paperwork Reduction Act, the Government Paperwork Elimination Act and the E-Government Act of 2002.

DATES: The effective date of this rule is December 28, 2012.

FOR FURTHER INFORMATION CONTACT:

Christopher Cook (Technology/Procedural Information), Office of the Executive Director, Federal Energy Regulatory Commission, 888 First Street NE., Washington, DC 20426, Telephone: (202) 502-8102;

Richard M. Wartchow (Legal Information), Office of the General Counsel, Federal Energy Regulatory Commission, 888 First Street NE., Washington, DC 20426, Telephone: (202) 502-8744.

SUPPLEMENTARY INFORMATION:

Need for Correction

In Federal Register Document 2012-26126 of October 29, 2012 (77 FR 65463); the final rule entitled “Filing of Privileged Materials and Answers to Motions” erroneously stated in the preamble that the Model Protective Order was developed by the Commission “Office of Administrative Litigation” instead of “Office of Administrative Law Judges”.

Correction

On page 65466, footnote 25; remove the title “Office of Administrative Litigation” and add in its place “Office of Administrative Law Judges”

On page 65468, in the third sentence of paragraph 29; remove the title “Office of Administrative Litigation” and add in its place “Office of Administrative Law Judges”.

On page 65468, in the second sentence of paragraph 36; remove the title “Office of Administrative Litigation” and add in its place “Office of Administrative Law Judges”.

Dated: November 5, 2012.
Nathaniel J. Davis, Sr.,
Deputy Secretary.

[FR Doc. 2012-27496 Filed 11-9-12; 8:45 am]

BILLING CODE 6717-01-P